FEDERAL COMMUNICATIONS COMMISSION

[GN Docket No. 17-208; FRS 144576]

Meeting of the Communications Equity and Diversity Council

AGENCY: Federal Communications Commission.

ACTION: Notice.

SUMMARY: In accordance with the Federal Advisory Committee Act, this notice announces the June 15, 2023, meeting of the Federal Communications Commission's (Commission) Communications Equity and Diversity Council (CEDC or Council).

DATES: Thursday, June 15, 2023, from 10 p.m. ET to 5 p.m. ET.

ADDRESSES: The CEDC meeting will be held in a hybrid manner, in person at FCC headquarters at 45 L Street NE, Washington, DC, as well as virtually available to the public for viewing via the internet at http://www.fcc.gov/live. While the CEDC's meeting is open to the public, the FCC headquarters building is not open access, and all guests must check in with and be screened by FCC security at the main entrance on L Street. Attendees are not required to have an appointment but must otherwise comply with protocols outlined at: https://www.fcc.gov/visit.

FOR FURTHER INFORMATION CONTACT: Jamila Bess Johnson, Designated Federal Officer (DFO) of the CEDC, Media Bureau (202) 418-2608, Jamila-Bess.Johnson@fcc.gov; or Diana Coho, Consumer Affairs and Outreach Specialist, Consumer and Governmental Affairs Bureau, at (202) 418-2848 or Diana.Coho@fcc.gov.

SUPPLEMENTARY INFORMATION:

Proposed Agenda: The agenda for the meeting will include final reports and recommendations from each of the three CEDC working groups including Innovation and Access, Digital Empowerment and Inclusion, and Diversity and Equity. The June 15, 2023, meeting is the closing meeting of the CEDC under its current charter, ending June 29, 2023. This agenda may be modified at the discretion of the CEDC Chair and the DFO.

The CEDC meeting will be accessible to the public on the internet via live feed from the Commission's web page at www.fcc.gov/live. Additionally, the public may follow the meeting on the Commission's YouTube page at https://www.youtube.com/user/fccdotgovvideo. The public may follow the event on Twitter@fcc or via the Commission's Facebook page at www.facebook.com/fcc.

Members of the public may submit questions during the meeting to livequestions@fcc.gov.

Additionally, members of the public may submit comments to the CEDC using the FCC's Electronic Comment Filing System, ECFS, at www.fcc.gov/ecfs. File comments to the CEDC in GN Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the Commission to contact the requester if more information is needed to fulfill the request. Please allow at least five days' notice; last-minute requests will be accepted but may not be possible to accommodate.

Federal Communications Commission.
Thomas Horan,
Chief of Staff, Media Bureau.

[FR Doc. 2023-11709 Filed 5-31-23; 8:45 am]

BILLING CODE 6712-01-P